DEPARTMENT OF ENERGY

Federal Energy Regulatory Commission

[Docket No. AD25-8-000]

Reliability Technical Conference; Supplemental Notice of Reliability Technical Conference

As announced in the May 14, 2025, notice in this proceeding, the Federal Energy Regulatory Commission (Commission) will convene its annual Commissioner-led Reliability Technical Conference in the above-referenced proceeding on Tuesday, October 21, 2025, to discuss policy issues related to the reliability and security of the Bulk-Power System. The conference will be held in-person at the Commission's headquarters at 888 First Street NE, Washington, DC 20426 in the Kevin J. McIntyre Commission Meeting Room.

Please note that this conference will now take place from approximately 9:30 a.m. to 12:30 p.m. Eastern time.¹

¹ As announced in a concurrently issued notice, Commission staff will convene a Technical Conference on Wildfire Risk Mitigation from approximately 1:30 p.m. to 4:30 p.m. Eastern time. See Notice of Technical Conference, Docket No. AD25-16-000 (issued September 10, 2025).

Supplemental notices will be issued prior to the conference with further details regarding the agenda. Information on this technical conference will also be posted on the Calendar of Events on the Commission's website, www.ferc.gov, prior to the event. The Commission provides technical support for the free webcasts. Please call 202-502-8680 or email customer@ferc.gov if you have any questions.

Commission conferences are accessible under section 508 of the Rehabilitation Act of 1973. For accessibility accommodations, please send an email to accessibility@ferc.gov or call toll free 1-866-208-3372 (voice) or 202-208-8659 (TTY) or send a fax to 202-208-2106 with the required accommodations.

For more information about this conference, please contact Lodie White at Lodie.White@ferc.gov or (202) 502-8453.

Dated: September 10, 2025.
Debbie-Anne A. Reese,
Secretary.

[FR Doc. 2025-17807 Filed 9-15-25; 8:45 am]

BILLING CODE 6717-01-P